DEPARTMENT OF TRANSPORTATION

Federal Transit Administration

Notice of Limitation on Claims Against Proposed Public Transportation Project

AGENCY: Federal Transit Administration (FTA), DOT.

ACTION: Notice of Limitation on Claims.

SUMMARY: This notice announces final environmental actions taken by the Federal Transit Administration (FTA) for the following project: Central Corridor Light Rail Transit Project, Metropolitan Council, Minneapolis, MN. The purpose of this notice is to announce publicly the environmental decisions by FTA on the subject project and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before November 1, 2011.

FOR FURTHER INFORMATION CONTACT: Katie Grasty, Environmental Protection Specialist, Office of Planning and Environment, 202-366-9139, or Christopher Van Wyk, Attorney-Advisor, Office of Chief Counsel, 202-366-1733. FTA is located at 1200 New Jersey Avenue SE., Washington, DC 20590. Office hours are from 9 a.m. to 5:30 p.m., EST, Monday through Friday, except Federal holidays.

SUPPLEMENTARY INFORMATION: Notice is hereby given that FTA has taken final agency actions by issuing certain approvals for the public transportation project listed below. The actions on this project, as well as the laws under which such actions were taken, are described in the documentation issued in connection with the project to comply with the National Environmental Policy Act (NEPA) and in other documents in the FTA administrative record for the project. Interested parties may contact either the project sponsor or the relevant FTA Regional Office for more information on the project. Contact information for FTA's Regional Offices may be found at http://www.fta.dot.gov.

This notice applies to all FTA decisions on the listed project as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register. The project and actions that are the subject of this notice are:

Project name and location: Central Corridor Light Rail Transit Project, City of Minneapolis, MN (Hennepin County) and City of St. Paul, MN (Ramsey County). Project sponsor: Metropolitan Council. Project description: The Central Corridor Light Rail Transit (LRT) Project (Project) is 10.9 miles long (9.7 miles of new alignment, 1.2 miles on shared alignment) and consists of 23 Central Corridor LRT stations—18 new stations and five shared with the Hiawatha LRT. The Central Corridor Light Rail Transit Project Final Environmental Impact Statement (FEIS) and Section 4(f) Evaluation was published in June 2009. A Record of Decision (ROD) was issued by the Federal Transit Administration (FTA) in August 2009.

Following the June 2009 FEIS and the August 2009 ROD, a lawsuit was filed against the U.S Department of Transportation (USDOT), the FTA and the Metropolitan Council by a coalition of local businesses, residents and non-profit organizations. One of the four claims made in the lawsuit was that the environmental review of the Project violated NEPA by failing to adequately analyze potential loss of business revenues caused during construction of the Project. The Court held that the FEIS prepared in June 2009, had failed to evaluate potential impacts on the loss of business revenue during construction and that it should have been evaluated during the NEPA process. The Court ordered the FTA and Metropolitan Council to supplement the FEIS on this issue and to consider any loss of business revenues as an adverse impact of the construction of the Central Corridor LRT. The results of this analysis, as required by the January 26, 2011, Court order, are documented in the Construction-Related Potential Impacts on Business Revenues Supplemental Environmental Assessment (EA) issued April 20, 2011. This notice applies to only the Finding of No Significant Impact issued on April 20, 2011. This notice does not alter or extend the prior Limitation on Claims notice issued for the Record of Decision issued for the Project in August 2009. Final agency actions: Finding of No Significant Impact issued April 20, 2011.

Supporting documentation: Final Environmental Impact Statement dated June 2009 and ROD dated August 18, 2009.

Issued on: April 29, 2011.
Elizabeth S. Riklin,
Deputy Associate Administrator for Planning and Environment.

[FR Doc. 2011-10911 Filed 5-4-11; 8:45 am]

BILLING CODE P